NATIONAL INDIAN GAMING COMMISSION

25 CFR Parts 543 and 547

Minimum Internal Control Standards and Technical Standards

AGENCY: National Indian Gaming Commission.

ACTION: Proposed rule; extension of comment period.

SUMMARY: On June 1, 2012, the National Indian Gaming Commission (NIGC) published in the Federal Register two notices of proposed rulemaking for public comment. The deadline for submission of public comments was July 31, 2012. In response to public requests to extend the comment period, the NIGC has determined that an extension of the end of the public comment period from July 31, 2012 until August 15, 2012, is appropriate. This action will allow interested persons additional time to analyze the proposed rules and prepare their comments.

DATES: The comment period for the proposed rules published June 1, 2012, at 77 FR 32444 and 77 FR 32465, is extended. Comments on the proposed rules must be received on or before August 15, 2012.

FOR FURTHER INFORMATION CONTACT: Sarah Walters, National Indian Gaming Commission, 1441 L Street NW., Suite 9100 Washington, DC 20005. Telephone: 202-632-7003; email: reg.review@nigc.gov.

SUPPLEMENTARY INFORMATION: Part 543 addresses minimum internal control standards (MICS) for Class II gaming operations. The regulations require tribes to establish controls and implement procedures at least as stringent as those described in this Part to maintain the integrity of the gaming operation and minimize the risk of theft.

The MICS were last amended in 2009 in the first phase of what was intended to be a multi-phase process of revising the MICS and separating Class II and III controls. This proposed rule furthers that multi-phase process and includes amendments to update the MICS to reflect widespread technological advances in the industry.

Dated: July 16, 2012.
Tracie L. Stevens,
Chairwoman.
Daniel J. Little,
Commissioner.

[FR Doc. 2012-17649 Filed 7-23-12; 8:45 am]

BILLING CODE 7565-01-P